DEPARTMENT OF ENERGY

Federal Energy Regulatory Commission

[Docket No. EL07-40-000]

Californians for Renewable Energy, Inc. (CARE), Complainant v. California Public Utilities Commission, Pacific Gas and Electric Company, Metcalf Energy Center and the Los Medanos Energy Center, LLC, Respondents; Notice of Complaint

March 5, 2007.

Take notice that on March 2, 2007, Californians for Renewable Energy, Inc. (CARE) tendered for filing pursuant to section 206 of the Federal Power Act a complaint against the California Public Utilities Commission (CPUC) for its action on February 15, 2007 authorizing Pacific Gas Electric Company (PG&E) to enter into a power purchase agreement with Metcalf Energy Center, LLC and the Los Medanos Energy Center, LLC, in alleged violation of the “filed rate doctrine”. CARE requests the contract be subject to the Commission's review under the December 19, 2006 opinions by the U.S. Court of Appeals for the Ninth Circuit in a pair of opinions—Public Utility Dist. No. 1 v. FERC 471 F.3d 1053 (9th Cir. 2006) and Public Utility commission of the State of California v. FERC, 2006 U.S. App. LEXIS 31140 (9th Cir. De. 19, 2006)

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 22, 2007.

Philis J. Posey,
Acting Secretary.

[FR Doc. E7-4337 Filed 3-9-07; 8:45 am]

BILLING CODE 6717-01-P